DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Employment Standards Administration is soliciting comments concerning the following three information collections: (1) Comparability of Current Work to Coal Mine Employment (CM-913), Coal Mine Employment Affidavit (CM-918), Affidavit of Deceased Miner's Condition (CM-1093); (2) LS-265, Certification of Funeral Expenses; and (3) WH-530, Application for Farm Labor Contractor and Farm Labor Contractor Employee Certificate of Registration.

DATES: Written comments must be submitted to the office listed in the addressee section below within January 14, 2002.

ADDRESSES: Ms. Patricia A. Forkel, U.S. Department of Labor, 200 Constitution Ave., NW., Room S-3201, Washington, DC 20210, telephone (202) 693-0339 (this is not a toll-free number), fax (202) 693-1451, EMail pforkel@fenix2.dol-esa.gov.

SUPPLEMENTARY INFORMATION:

CM-913—Comparability of Current Work to Coal Mine Employment

CM-918—Coal Mine Employment Affidavit

CM-1093—Affidavit of Deceased Miner's Condition

I. Background

The Black Lung Benefits Act of 1977, as amended, 30 U.S.C. 901 et. seq., provides for the payment of benefits to coal miners who have contracted black lung disease as a result of coal mine employment, and their dependents and survivors. Once a miner has been identified as having performed non-coal mine work subsequent to coal mine employment, the miner or the miner's survivor is asked to complete a CM-913 to compare coal mine work to non-coal mine work. This employment information, along with medical information, is used to establish whether the miner is totally disabled due to black lung disease caused by coal mine employment. The CM-918 is an affidavit used to gather coal mine employment evidence only when primary evidence, such pay stubs, W-2 forms, employer and union records, and Social Security records are unavailable or incomplete. The CM-1093 is an affidavit form for recording lay medical evidence, used in survivors' claims in which evidence of the miner's medical condition is insufficient.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the approval of the extension of this information collection in order to carry out its responsibility to determine eligibility for black lung benefits.

Type of Review: Extension.

Agency: Employment Standards Administration.

Titles: Comparability of Current Work to Coal Mine Employment; Coal Mine Employment Affidavit; Affidavit of Deceased Miner's Condition.

OMB Number: 1215-0056.

Agency Numbers: CM-913, CM-918, CM-1093.

Affected Public: Individuals or households.

Frequency: On occasion.

Form | Total Responses | Time per Response (in minutes) | Burden Hours
CM-913 | 1,500 | 30 | 750
CM-918 | 100 | 10 | 17
CM-1093 | 100 | 20 | 33

Total Respondents/Responses: 1,700.

Estimated Total Burden Hours: 800.

Total Burden Cost (capital/startup): $0.

Total Burden Cost (operating/maintenance): $1,700.

SUPPLEMENTARY INFORMATION:

LS-265—Certification of Funeral Expenses

I. Background

The Office of Workers' Compensation Programs administers the Longshore and Harbor Workers' Compensation Act. The Act provides benefits to workers injured in maritime employment on the navigable waters of the United States or in an adjoining area customarily used by an employer in loading, unloading, repairing, or building a vessel. The Act provides that reasonable funeral expenses not to exceed $3,000 shall be paid in all compensable death cases. The LS-265 has been provided for use in submitting the funeral expenses for payment.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the approval of the extension of this information collection in order to carry out its responsibility to certify the amount of funeral expenses incurred in the case.

Type of Review: Extension.

Agency: Employment Standards Administration.

Title: Certification of Funeral Expenses.

OMB Number: 1215-0027.

Agency Number: LS-265.

Affected Public: Businesses or other for-profit.

Frequency: On occasion.

Total Annual Respondents/Responses: 195.

Time Per Response: 15 minutes.

Estimated Total Burden Hours: 49.

Total Burden Cost (capital/startup): $0.

Total Burden Cost (operating/maintenance): $72.15.

SUPPLEMENTARY INFORMATION: WH-530—Application for Farm Labor Contractor and Farm Labor Contractor Employee Certificate of Registration

I. Background

Section 101(a) of the Migrant and Seasonal Agricultural Worker Protection Act (MSPA) provides that no person shall engage in any farm labor contracting activity unless such person has a certificate of registration from the Secretary of Labor specifying which farm labor contracting activities such person is authorized to perform. Further, section 101(b) of MSPA provides that a farm labor contractor shall not hire, employ, or use any individual to perform farm labor contracting activities unless such individual has a certificate of registration as a farm labor contractor.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the approval of the extension of this information collection in order to carry out its responsibility to issue, after appropriate investigation and review, a farm labor certificate of registration, including a certificate of registration as an employee of a farm labor contractor, to any person who has filed with the Secretary a written application for a certificate.

Type of Review: Extension.

Agency: Employment Standards Administration.

Title: Application for Farm Labor Contractor and Farm Labor Contractor Employee Certificate of Registration.

OMB Number: 1215-0037.

Agency Number: WH-530.

Affected Public: Businesses or other for-profit; Farms.

Frequency: On occasion (initial application); biennially (renewal).

Total Annual Respondents/Responses: 9,200.

Time Per Response: 30 minutes.

Estimated Total Burden Hours: 4,600.

Total Burden Cost (capital/startup): $0.

Total Burden Cost (operating/maintenance): $2,213.

Comments submitted in response to this notice will be summarized and/or included in the request for Office of Management and Budget approval of the information collection request; they will also become a matter of public record.

Dated: November 8, 2001.
Margaret J. Sherrill,
Chief, Branch of Management Review and Internal Control, Division of Financial Management, Office of Management, Administration and Planning Employment Standards Administration.

[FR Doc. 01-28605 Filed 11-14-01; 8:45 am]

BILLING CODE 4510-CK-P